DEPARTMENT OF LABOR

Employment and Training Administration

[TA-W-53,361]

Duluth, Missabe and Iron Range Railway Company, Duluth, MN; Notice of Termination of Investigation

Pursuant to section 221 of the Trade Act of 1974, as amended, an investigation was initiated on October 28, 2003, in response to a worker petition filed by a company official on behalf of workers at Duluth, Missabe and Iron Range Railway Company, Duluth, Minnesota.

The petitioning worker group is included in a petition filed on October 15, 2003 (TA-W-53,274), that is the subject of an ongoing investigation for which a determination has not yet been issued. Further investigation in this case would serve no purpose and the investigation has been terminated.

Signed at Washington, DC this 6th day of November, 2003.
Linda G. Poole,
Certifying Officer, Division of Trade Adjustment Assistance.

[FR Doc. 03-29383 Filed 11-24-03; 8:45 am]

BILLING CODE 4510-30-P